FEDERAL COMMUNICATIONS COMMISSION

47 CFR Part 73

[DA 05-2635; MB Docket No. 05-116; RM-11188]

Radio Broadcasting Services; Fisher and Thief River Falls, MN

AGENCY: Federal Communications Commission.

ACTION: Final rule.

SUMMARY: In response to a Notice of Proposed Rule Making, 70 FR 17049 (April 4, 2005), this Report and Order reallots Channel 262C1, Station KSNR(FM) (“KSNR”) from Thief River Falls, Minnesota, to Fisher, Minnesota, and modifies Station KSNR's license accordingly. The coordinates for Channel 262C1 at Fisher, Minnesota, are 47-58-38 NL and 96-36-42 WL, with a site restriction of 24.2 kilometers (15.1 miles) northeast of Fisher.

DATES: Effective November 17, 2005.

FOR FURTHER INFORMATION CONTACT: R. Barthen Gorman, Media Bureau, (202) 418-2180.

SUPPLEMENTARY INFORMATION: This is a synopsis of the Commission's Report and Order, MB Docket No. 05-116, adopted September 29, 2005, and released October 3, 2005. The full text of this Commission decision is available for inspection and copying during normal business hours in the FCC's Reference Information Center at Portals II, 445 12th Street, SW., Room CY-A257, Washington, DC, 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334, 336.

§ 73.202 [Amended]

2. Section 73.202(b), the Table of FM Allotments under Minnesota, is amended by adding Fisher, Channel 262C1, and by removing Channel 262C1 at Thief River Falls.

Federal Communications Commission.
John A. Karousos,
Assistant Chief, Audio Division, Media Bureau.

[FR Doc. 05-20608 Filed 10-18-05; 8:45 am]

BILLING CODE 6712-01-P